DEPARTMENT OF THE INTERIOR

National Park Service

National Register of Historic Places; Notification of Pending Nominations and Related Actions

[2280-665]

Nominations for the following properties being considered for listing or related actions in the National Register were received by the National Park Service before February 27, 2011. Pursuant to sections 60.13 or 60.15 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by April 1, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Cochise County

Benson Historic Barrio, 307-572 Fifth St., between San Pedro St and Route 80, Benson, 11000174

Maricopa County

Tempe Butte, Bounded on N by Tempe Town Lake, on the W by Mill Ave District, on S by Arizona State University, Tempe, 11000175

CALIFORNIA

San Francisco County

San Francisco Juvenile Court and Detention Center, 150 Otis St., San Francisco, 11000182

FLORIDA

Broward County

Homes, Dr. Kennedy, Historic District, 1004 W Broward Blvd., Fort Lauderdale, 11000179

Duval County

Evergreen Cemetery, 4535 N Main St., Jacksonville, 11000157

Hillsborough County

Jackson, Captain William Parker, House, 800 E Lambright St., Tampa, 11000159

Orange County

Downtown Winter Park Historic District, Roughly Canton Ave., Center St., Comstock Ave., New York Ave., Winter Park, 11000158

Palm Beach County

Prospect Park—Southland Park Historic District, Bounded by Lake Worth, S Dixie HWY, Monceaux Rd., Monroe Dr., West Palm Beach, 11000181

GEORGIA

Mitchell County

Williams, Georgia, Nursing Home, 176 Dyer St., Camilla, 11000180

MASSACHUSETTS

Suffolk County

United States Post Office, Courthouse, and Federal Building, 5 Post Office Square, Boston, 11000160

Worcester County

U.S. Post Office and Courthouse, 595 Main St., Worcester, 11000161

MICHIGAN

Delta County

Bay de Noquet Lumber Company Waste Burner, South end of River St., Nahma, 11000177

Grand Traverse County

Dougherty Mission House, 18459 Mission Road, Peninsula, 11000176

Stickney Summer House, 13512 Peninsula Dr., Peninsula, 11000178

MONTANA

Missoula County

Missoula Downtown Historic District Boundary Increase, Bounded by Montana Rail Link and BNSF railway, Toole-Railroad-Alder Sts., Missoula, 11000183

NEW MEXICO

Dona Ana County

Camino Real—Rincon Arroyo—Perrillo Section, (Camino Real in New Mexico, AD 1598-1881 MPS) Address Restricted, Rincon, 11000172

Camino Real—San Diego North South Section, (Camino Real in New Mexico, AD 1598-1881 MPS) Address Restricted, Radium Springs, 11000166

Camino Real—San Diego South, (Camino Real in New Mexico, AD 1598-1881 MPS) Address Restricted, Rincon, 11000165

Santa Fe County

Camino Real—Alamitos Section, (Camino Real in New Mexico, AD 1598-1881 MPS) Address Restricted, Santo Domingo Pueblo, 11000169

Camino Real—Canon de las Bocas Section, (Camino Real in New Mexico, AD 1598-1881 MPS) Address Restricted, Santa Fe, 11000170

Camino Real—La Bajada Mesa Section, (Camino Real in New Mexico, AD 1598-1881 MPS) Address Restricted, Santa Fe, 11000168

Sierra County

Camino Real—Jornada Lakes Section, (Camino Real in New Mexico, AD 1598-1881 MPS) Address Restricted, Engle, 11000167

Camino Real—Point of Rocks Section, (Camino Real in New Mexico, AD 1598-1881 MPS) Address Restricted, Rincon, 11000171

Camino Real—Yost Draw Section, (Camino Real in New Mexico, AD 1598-1881 MPS) Address Restricted, Engle, 11000163

Socorro County

Camino Real—San Pascual Pueblo, (Camino Real in New Mexico, AD 1598-1881 MPS) Address Restricted, San Antonio, 11000164

Camino Real—Qualacu Pueblo, (Camino Real in New Mexico, AD 1598-1881 MPS) Address Restricted, San Antonio, 11000173

TEXAS

Liberty County

Chambers, Thomas Jefferson, House, 624 Milam St., Liberty, 11000156

WISCONSIN

Outagamie County

Center Valley Grade School, W5532 Center Valley Rd., Center, 11000162

OTHER ACTIONS

Request for REMOVAL has been made for the following resource:

TEXAS

Victoria County

Victoria Grist Windmill, Memorial Park in Victoria, Victoria, 76002079

Request for RELOCATION has been made for the following resource:

WISCONSIN

Douglas County

Massachusetts Block, 1525-1531 Tower Ave., Superior, 85001469

Milwaukee County

Whitefish Bay National Guard Armory, 1225 E Henry Clay St., Whitefish Bay, 02000650

Walworth County

Bradley Knitting Company, 902 Wisconsin St., Delavan, 92000168

[FR Doc. 2011-6213 Filed 3-16-11; 8:45 am]

BILLING CODE 4312-51-P